DEPARTMENT OF TRANSPORTATION

Office of the Secretary

Aviation Proceedings, Agreements Filed the Week Ending December 9, 2005

The following Agreements were filed with the Department of Transportation under sections 412 and 414 of the Federal Aviation Act, as amended (49 U.S.C. 1382 and 1384) and procedures governing proceedings to enforce these provisions. Answers may be filed within 21 days after the filing of the application.

Docket Number: OST-2005-23320.

Date Filed: December 9, 2005.

Parties: Members of the International Air Transport Association.

Subject: PSC/RESO/128 dated December 5, 2005.

Intended effective date: 1 February 2006.

Renee V. Wright,
Program Manager, Docket Operations, Federal Register Liaison.

[FR Doc. E5-7834 Filed 12-23-05; 8:45 am]

BILLING CODE 4910-62-P